DEPARTMENT OF THE INTERIOR

Bureau of Land Management

[AZ-310-1430-ET; CACA-47810]

Notice of Proposed Withdrawal and Opportunity for Public Meeting; California

AGENCY: Bureau of Land Management, Interior.

ACTION: Notice.

SUMMARY: The Secretary of the Interior proposes to withdraw on behalf of the Bureau of Reclamation, approximately 17.55 acres of public land, for a period of 20 years, to protect the Bureau of Reclamation's Colorado River Front Work and Levee Project in San Bernardino County, California. This notice segregates the land for up to 2 years from the public land laws and the United States mining laws.

DATES: Comments should be received on or before January 10, 2007.

ADDRESSES: Comments and meeting requests should be sent to the Bureau of Reclamation, Lower Colorado Regional Office, P.O. Box 61470, Boulder City, Nevada 89006-1470.

FOR FURTHER INFORMATION CONTACT: Ms. Kay Sundberg, Bureau of Reclamation, Lower Colorado Regional Office, (702) 293-8176.

SUPPLEMENTARY INFORMATION: The Bureau of Reclamation has filed an application to withdraw, for a period of 20 years, the following-described public land from the public land laws and the United States mining laws, subject to valid existing rights:

San Bernardino Meridian, California

T. 8 N., R. 23 E.,

sec.10, lot 6.

The area described contains 17.55 acres in San Bernardino County.

The petition/application has been approved by the Assistant Secretary of the Interior. Therefore, it constitutes a withdrawal proposal of the Secretary of the Interior (43 CFR 2310.1-3(e)).

The use of a right-of-way, interagency agreement, or cooperative agreement would not adequately constrain non-discretionary uses and would not provide adequate protection of the Federal investment in the improvements located on the land.

There are no suitable alternative sites with equal or greater benefit to the government.

No additional water rights would be needed to fulfill the purpose of the requested withdrawal.

The preliminary mineral potential evaluation found the above-described lands to have a low potential for locatable minerals.

The purpose of the proposed withdrawal would be to protect the Bureau of Reclamation Colorado River Front Work and Levee System Project.

For a period of 90 days from the date of publication of this notice, all persons who wish to submit comments, suggestions, or objections in connection with the proposed withdrawal may present their views in writing, by the date specified above, to the Bureau of Reclamation Regional Office at the address noted above.

Comments, including names and street addresses of respondents, will be available for public review at the Bureau of Reclamation, Lower Colorado Regional Office, 500 1st Street, Boulder City, Nevada 89006, during regular business hours, 8 a.m. to 4 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the Regional Director, Bureau of Reclamation, Lower Colorado Regional Office.

For a period of 2 years from the date of publication of this notice in the Federal Register, the land will be segregated as specified above unless the application is denied or canceled or the withdrawal is approved prior to that date. The temporary land uses which may be permitted during this segregative period include licenses, permits, rights-of-ways, and disposal of vegetative resources other than under the mining laws.

The withdrawal proposal will be processed in accordance with the regulations set forth in 43 CFR part 2300.

(Authority: 43 CFR 2310.3-1)

Dated: October 2, 2006.
Michael A. Taylor,
Deputy State Director, Resources.

[FR Doc. E6-16842 Filed 10-11-06; 8:45 am]

BILLING CODE 4310-MN-P